DEPARTMENT OF DEFENSE

Office of the Secretary

Proposed Collection; Comment Request

AGENCY: Office of the Under Secretary of Defense (Personnel and Readiness), DoD

ACTION: Notice.

In compliance with Section 3506(c)(2)(A) of the Paperwork Reduction Act of 1995, the Office of the Under Secretary of Defense (Personnel and Readiness) announces the following proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by February 7, 2006.

ADDRESSES: Written comment and recommendations on the proposed information collection should be sent to the Department of Defense Education Activity (DoDEA), 4040 N. Fairfax Drive, 9th Floor, Arlington, VA 22203, ATTN: Sandra Embler.

FOR FURTHER INFORMATION CONTACT: To request more information on this proposed information collection or to obtain a copy of the proposal and associated collection instruments, please write to the above address or call at (703) 588-3175.

Title, Form, and OMB Control Number: Department of Defense Education Activity (DoDEA) Non-Sponsored Research Program; DoDEA Form 1: OMB Control Number 0704-TBD.

Needs and Uses: The Department of Defense Education Activity (DoDEA) is a DoD field activity operating under the direction, authority, and control of the Deputy Under Secretary of Defense, Military Community and Family Policy. The DoDEA operates 223 schools in 16 districts located in 13 foreign countries, seven states, Guam, and Puerto Rico. The DoDEA receives requests from researchers to conduct non-DoDEA sponsored research studies in DoDEA schools, districts, and/or areas. To review the proposed research requests, DoDEA developed Form 1, “Research Study Request,” in Administrative Instruction 2071.3 (DoDEA AI 2071.3), to collect information about the researcher, the research project, audience, timeline, and the statistical analyses that will be conducted during the proposed research study. This information is needed to ensure that the proposed non-DoDEA sponsored research does not unduly interfere with the classroom instructional process or the regular operations of the school, district, and/or areas.

Affected Public: Individuals or households; business or other for-profit; not-for-profit institutions; and state, local, or tribal government.

Annual Burden Hours: 75.

Number of Respondents: 75.

Responses Per Respondent: 1.

Average Burden Per Response: 1 hour.

Frequency: On occasion.

SUPPLEMENTARY INFORMATION:

Summary of Information Collection

The DoDEA Administrative Instruction 2071.3 (DoDEA AI 2071.3) follows DoD Directive 3216.2, “Protection of Human Subjects and Adherence to Ethical Standards in DoD-Supported Research,” March 25, 2002, that states “The rights and welfare of human subjects in research supported or conducted by the DoD Components shall be protected. This protection encompasses basic respect for persons, beneficence, and justice in the selection of subjects.” To ensure that all non-DoDEA sponsored research conducted in the DoDEA school system complies with these guidelines, DoDEA developed Form 1, “Research Study Request,” to collect information from researchers that will be used to evaluate the proposed research study. The data collected is analyzed to determine whether the research unduly interferes with the classroom instructional process or the regular operations of the school, and/or areas. Information collected on the DoDEA “Research Study Request” includes the researcher's name, address, telephone number, e-mail address, FAX number (if available), school affiliation (if applicable), the study title, an abstract of the proposed study, an explanation of how the research study (1) is aligned with the DoDEA Community Strategic Plan, and (2) the impact of the study in the researcher's field of study, the major hypothesis(es) or question(s) to be tested, the population and/or sample to be studied, a description and copy of instruments, other data collection activities, the timetable for the study, and the statistical or other analysis techniques to be used during the study.

Dated: December 5, 2005.
Patricia L. Toppings,
Alternate OSD Federal Register Liaison Officer, Department of Defense.

[FR Doc. 05-23816 Filed 12-8-05; 8:45 am]

BILLING CODE 5001-06-M